DEPARTMENT OF DEFENSE

GENERAL SERVICES ADMINISTRATION

NATIONAL AERONAUTICS AND SPACE ADMINISTRATION

48 CFR Chapter 1

[Docket FAR 2012-0081, Sequence 6]

Federal Acquisition Regulation; Federal Acquisition Circular 2005-61; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2005-61, which amends the Federal Acquisition Regulation (FAR). An asterisk (*) next to a rule indicates that a regulatory flexibility analysis has been prepared. Interested parties may obtain further information regarding this rule by referring to FAC 2005-61, which precedes this document. These documents are also available via the Internet at http://www.regulations.gov.

DATES: September 13, 2012.

FOR FURTHER INFORMATION CONTACT: For clarification of content, contact the analyst whose name appears in the table below. Please cite FAC 2005-61 and the FAR case number. For information pertaining to status or publication schedules, contact the Regulatory Secretariat at 202-501-4755.

List of Rules in FAC 2005-61
Item | Subject | FAR case | Analyst
I | United States-Korea Free Trade Agreement | 2012-004 | Davis.
II | Delete Outdated FAR Reference to the DoD Industrial Preparedness Program | 2012-026 | Lague.
III | NAICS and Size Standards | 2012-021 | Morgan.
IV | Bid Protest and Appeal Authorities | 2012-008 | Loeb.
V | Technical Amendments.

SUPPLEMENTARY INFORMATION: Summaries for each FAR rule follow. For the actual revisions and/or amendments made by these FAR cases, refer to the specific item numbers and subjects set forth in the documents following these item summaries. FAC 2005-61 amends the FAR as specified below:

Item I—United States-Korea Free Trade Agreement (FAR Case 2012-004)

This final rule adopts without change the interim rule published in the Federal Register on March 7, 2012 (77 FR 13952), to implement the United States-Korea Free Trade Agreement. The Republic of Korea is already party to the World Trade Organization Government Procurement Agreement (WTO GPA). The Korea Free Trade Agreement now covers acquisition of supplies and services between $100,000 and the current WTO GPA threshold of $202,000. This final rule will not have a significant economic impact on a substantial number of small entities.

Item II—Delete Outdated FAR Reference to the DoD Industrial Preparedness Program (FAR Case 2012-026)

This final rule amends the FAR to delete outdated references to the “DoD Industrial Preparedness Program”, which is no longer in existence. There is no impact to the Government or small business because this program was discontinued in 1992.

Item III—NAICS and Size Standards (FAR Case 2012-021)

This final rule amends the FAR to clarify that new North American Industry Classification System codes are not available for use in Federal contracting until the Small Business Administration publishes corresponding industry size standards. Published size standards are available on the SBA's Web site and at 13 CFR 121.201. The clarifying language is provided for informational purposes and only addresses internal Government policies and procedures. This rule will not have a significant impact on the Government, and does not impose additional requirements on small businesses.

Item IV—Bid Protest and Appeal Authorities (FAR Case 2012-008)

This final rule amends FAR part 33 to note that there are other Federal-court related protest authorities and dispute-appeal authorities that are not covered by FAR part 33. This rule also provides contracting officers with appropriate references to their office of legal counsel and the Web site for the rules of the U.S. Court of Federal Claims. This is a final rule because it only impacts the Federal Government's internal operating procedures.

Item V—Technical Amendments

Editorial changes are made at FAR 7.403 and 15.404-1.

Dated: September 7, 2012.
Laura Auletta,
Director, Office of Governmentwide Acquisition Policy, Office of Acquisition Policy, Office of Governmentwide Policy.

[FR Doc. 2012-22589 Filed 9-12-12; 8:45 am]

BILLING CODE 6820-EP-P